DEPARTMENT OF COMMERCE

Census Bureau

Agency Information Collection Activities; Submission to the Office of Management and Budget (OMB) for Review and Approval; Comment Request; Management and Organizational Practices Survey—Hospitals (MOPS-HP)

AGENCY: Census Bureau, Commerce.

ACTION: Notice of information collection; request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for an additional 60 days of public comment on a proposed new information collection, the Management and Organizational Practices Survey—Hospitals (MOPS-HP). An information collection request (ICR) for the MOPS-HP was submitted to OMB for approval on July 7, 2020 and is currently pending OMB review.

DATES: To ensure consideration, comments regarding this proposed information collection must be received on or before January 19, 2021.

ADDRESSES: Interested persons are invited to submit written comments by email to Thomas.J.Smith@census.gov. Please reference Management and Organizational Practices Survey—Hospitals (MOPS-HP) in the subject line of your comments. You may also submit comments, identified by Docket Number USBC-2020-0029, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Edward Watkins at edward.e.watkins.iii@census.gov or 301-763-4750.

SUPPLEMENTARY INFORMATION:

I. Abstract

The U.S. Census Bureau plans to conduct the Management and Organizational Practices Survey-Hospitals (MOPS-HP) for survey year 2020 as a joint project with Harvard Business School. The MOPS-HP will utilize a subset of the Service Annual Survey mail-out sample and will collect data on management practices from Chief Nursing Officers (CNOs) at general medical and surgical hospitals to assist in studying their relationship to clinical and financial performance.

A notice seeking public comment on our plans to conduct this survey was previously published in the Federal Register on February 12, 2020, on pages 4623-4624. That notice proposed collecting data for survey years 2019 and 2014, but collection has been adjusted due to the ongoing coronavirus pandemic. The pandemic has further highlighted the relevance of hospital management practices, especially as they relate to hospitals' abilities to respond to shocks to their organization and the health care system. In light of this, the Census Bureau has modified the survey proposal to collect data for reference years 2020 and 2019. This change seeks to directly measure management practices and protocols before and during the pandemic to obtain a better understanding of how hospitals have had to adjust and pivot operations during this public health emergency.

The Census Bureau also plans to include two additional questions in the MOPS-HP content to help improve measurement of hospital preparedness. These questions will provide information on two elements of responsiveness, hospitals' coordinated deployment of frontline clinical workers and hospitals' ability to quickly respond to needed changes in standardized clinical protocols. In an effort to limit respondent burden while adding this content, adjustments were made to keep the total number of questions and estimated burden per response unchanged. The project plan, schedule, and collection strategy are being actively monitored, and adjustments will be made as necessary, as the Census Bureau is cognizant and respectful of the time, resources, and burden placed on CNOs during the pandemic.

After the close of this second comment period, the Census Bureau will submit these planned changes as an amendment to the ICR, which is currently pending review at OMB. Any comments received by the close of the comment period will be summarized and included in the amendment.

Currently, no official statistics on management practices in hospitals exist. Past research shows these practices are related to health care providers' clinical and financial outcomes. This suggests that providing measures on management practices may potentially help the United States health care system, which is challenged by rising health care costs, increased demand from an aging society, and quality objectives. These data would permit users to examine relationships between management practices and financial outcomes using Census Bureau data (e.g., revenues) and relationships with clinical outcomes using external data sources. Additionally, these data would provide hospital administrators and managers information to evaluate their practices in comparison to other hospitals at an aggregate level.

The MOPS-HP content was proposed by external researchers with past experience in surveying hospitals on management practices. Some questions are adapted from the Management and Organizational Practices Survey (MOPS), conducted in the manufacturing sector, allowing for inter-sectoral comparisons. Content for the MOPS-HP includes performance monitoring, financial and clinical targets, and incentives. The 39 questions are grouped into the following sections: Tenure, Management Practices, Management Training, Management of Team Interactions, Staffing and Allocation of Human Resources, Standardized Clinical Protocols, Documentation of Patients' Medical Records, and Organizational Characteristics.

II. Method of Collection

The MOPS-HP sample will consist of approximately 3,200 hospital locations for enterprises classified under General Medical and Surgical Hospitals (NAICS 6221) and sampled in the Service Annual Survey (SAS). The survey will be mailed separately from the 2020 SAS and collected electronically through the Census Bureau's Centurion online reporting system. Respondents will be sent an initial letter with instructions detailing how to log into the instrument and report their information. These letters will be addressed to the location's CNO. In instances where the CNO is not identifiable, the letter will be addressed to the hospital's administrative office with attention to the CNO. Collection is scheduled to begin in the initial months of 2021.

III. Data

OMB Control Number: 0607-XXXX.

Form Number(s): MP-2000.

Type of Review: Regular submission, New Information Collection Request.

Affected Public: General medical and surgical hospitals.

Estimated Number of Respondents: Approximately 3,200.

Estimated Time per Response: 45 minutes.

Estimated Total Annual Burden Hours: 2,400.

Estimated Total Annual Cost to Public: $0. (This is not the cost of respondents' time, but the indirect costs respondents may incur for such things as purchases of specialized software or hardware needed to report, or expenditures for accounting or records maintenance services required specifically by the collection.)

Respondent's Obligation: Mandatory.

Legal Authority: Title 13 U.S.C., Sections 131 and 182.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2020-25580 Filed 11-18-20; 8:45 am]

BILLING CODE 3510-07-P